DEPARTMENT OF ENERGY

Federal Energy Regulatory Commission

[Docket No. EL06-31-000]

Southern Illinois Power Cooperative, Complainant v. Midwest Independent Transmission System Operator, Inc., Respondent; Notice of Complaint

December 22, 2005.

Take notice that on December 20, 2005, Southern Illinois Power Cooperative filed a formal complaint against the Midwest Independent Transmission System Operator, Inc. (Midwest ISO) pursuant to section 206 of the Federal Power Act, 16 U.S.C. 824e and Rule 206 of the Rules of Practice and Procedure of the Commission, 18 CFR 385.206, alleging that the Midwest ISO violates Commission Orders and its own Open Access Transmission and Energy markets Tariff regarding the treatment of carved out Grandfathered Agreements (GFAs) by charging Revenue Sufficiency Guarantee charges and revenue neutrality charges to carved-out GSAs.

Southern Illinois Power Cooperative certifies that copies of the complaint were served on the contracts for the Midwest ISO.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 9, 2006.

Magalie R. Salas,
Secretary.

[FR Doc. E5-8166 Filed 12-30-05; 8:45 am]

BILLING CODE 6717-01-P